DEPARTMENT OF COMMERCE

National Oceanic and Atmospheric Administration

50 CFR Part 648

[Docket No. 230109-0004; RTID 0648-XC472]

Revisions to Framework Adjustment 63 to the Northeast Multispecies Fishery Management Plan and Sector Annual Catch Entitlements

AGENCY: National Marine Fisheries Service (NMFS), National Oceanic and Atmospheric Administration (NOAA), Commerce.

ACTION: Final rule; adjustment to specifications.

SUMMARY: This final rule announces carryover allocation from fishing year 2021 into fishing year 2022 for the Northeast Multispecies sectors program. This action is necessary to distribute carryover quota to sectors. The carryover adjustments in this rule are routine and formulaic, and industry expects them each year.

DATES: Effective January 13, 2023, through April 30, 2023.

FOR FURTHER INFORMATION CONTACT: Spencer Talmage, Fishery Management Specialist, (978) 281-9232.

SUPPLEMENTARY INFORMATION: On July 15, 2022, we published a final rule approving Framework Adjustment 63 to the Northeast Multispecies Fishery Management Plan (FMP) (87 FR 42375), which set or adjusted annual catch limits (ACL) for 5 of the 20 groundfish stocks, and 2022 ACLs for three shared U.S./Canada stocks. This rule distributes unused sector quota carried over from fishing year 2021 to fishing year 2022.

Sector Carryover Allocations From Fishing Year 2021

Carryover regulations at 50 CFR 648.87(b)(1)(i)(C) allow each groundfish sector to carry over an amount of unused annual catch entitlement (ACE) up to 10 percent of the sector's original ACE for each stock (except for Georges Bank [GB] yellowtail flounder) that is unused at the end of the fishing year into the following fishing year. We are required to adjust ACE carryover to ensure that the total unused ACE combined with the overall sub-ACL does not exceed the acceptable biological catch (ABC) for the fishing year in which the carryover may be harvested. We have completed 2021 fishing year data reconciliation with sectors and determined final 2021 fishing year sector catch and the amount of allocation that sectors may carry over from the 2021 to the 2022 fishing year. Accordingly, unused ACE from fishing year 2021 available to carry over to fishing year 2022 has been reduced for the following stocks: GB cod; GB haddock; Gulf of Maine (GOM) haddock; Southern New England/Mid-Atlantic (SNE/MA) yellowtail flounder; Cape Cod/GOM yellowtail flounder; American plaice, witch flounder; GB winter flounder; GOM winter flounder; SNE/MA winter flounder; redfish; white hake; and pollock. The only stock for which carryover was a full 10 percent of the original quota allocation from fishing year 2021 was GOM cod. Complete details on carryover reduction percentages can be found at: https://www.greateratlantic.fisheries.noaa.gov/ro/fso/reports/h/groundfish_catch_accounting.

Table 1 includes the maximum amount of allocation that sectors may carry over from the 2021 to the 2022 fishing year. Table 2 includes the de minimis amount of carryover for each sector for the 2022 fishing year. If the overall ACL for any allocated stock is exceeded for the 2022 fishing year, the allowed carryover harvested by a sector, minus the pounds in the sector's de minimis amount, will be counted against its allocation to determine whether an overage subject to an accountability measure occurred. Tables 3 and 4 list the final ACE available to sectors for the 2022 fishing year, including finalized carryover amounts for each sector, as adjusted down when necessary to equal each stock's ABC.

BILLING CODE 3510-22-P

Classification

NMFS is issuing this rule pursuant to 305(d) of the Magnuson-Stevens Fishery Conservation and Management Act (MSA), which provides specific authority for implementing this action. Section 305(d) authorizes NMFS to take action to carry out provisions in FMPs and of the MSA. In a previous action taken pursuant to section 304(b), NMFS approved the Council designed provisions in the FMP to authorize NMFS to annually adjust and distribute sector carryover consistent with MSA requirements to prevent overfishing and achieve optimum yield. See § 648.87(b)(1)(i)(C). The NMFS Assistant Administrator has determined that this final rule is consistent with the Northeast Multispecies FMP, other provisions of the Magnuson-Stevens Fishery Conservation and Management Act, and other applicable laws.

This final rule is exempt from review under Executive Order 12866.

Pursuant to 5 U.S.C. 553(b)(3)(B), we find good cause to waive prior public notice and opportunity for public comment on the allocation adjustments because allowing time for notice and comment is impracticable, unnecessary, and contrary to the public interest. We also find good cause to waive the 30-day delay in effectiveness pursuant to 5 U.S.C. 553(d)(1) and (3), so that this final rule may become effective in a timely manner and the fishery may maximize the economic benefits of the adjusted allocations to the fishery.

Notice and comment and a 30-day delay in effectiveness would be impracticable, unnecessary, and contrary to the public interest. The distribution of unused quota carried over from the previous fishing year is an annual adjustment action that is expected by industry. These adjustments increase available catch, and sector vessels will be able to fish for this additional catch as soon as this action is in effect, which will provide increased operational flexibility and ability to catch its available allocation. They are routine, formulaic, and authorized by regulation. The public had prior notice and opportunity to participate in the development of and comment on the regulations implementing this process and expects this adjustment each year. Delaying these adjustments would result in a delay in the distribution of unused carryover to sectors, and could negate or reduce the intended economic benefits and increased operational flexibility provided by these adjustments. Carryover from 2021 was only recently finalized because it is based on data that was not available until the late fall upon the conclusion of the catch accounting process for fishing year 2021.

Also, because advanced notice and the opportunity for public comment are not required for this action under the Administrative Procedure Act, or any other law, the analytical requirements of the Regulatory Flexibility Act, 5 U.S.C. 601, et seq., do not apply to this rule. Therefore, no final regulatory flexibility analysis is required and none has been prepared.

This final rule contains no information collection requirements under the Paperwork Reduction Act of 1995.

Authority: 16 U.S.C. 1801 et seq.

Dated: January 10, 2023.
Samuel D. Rauch, III,
Deputy Assistant Administrator for Regulatory Programs, National Marine Fisheries Service.

[FR Doc. 2023-00575 Filed 1-13-23; 8:45 am]

BILLING CODE 3510-22-C